ADVISORY COUNCIL ON HISTORIC PRESERVATION

Notice of Meeting

AGENCY: Advisory Council on Historic Preservation.

ACTION: Notice of meeting.

SUMMARY: Notice is hereby given that the Advisory Council on Historic Preservation (ACHP) will meet on Friday, November 15, 2002. The meeting will be held in the Rachel Carson Great Hall, Third Floor, at the Ariel Rios Building, 1200 Pennsylvania Avenue, NW., Washington, DC, beginning at 8:30 a.m.

The ACHP was established by the National Historic Preservation Act of 1996 (16 U.S.C. Section 470) to advise the President and the Congress on historic preservation issues and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meting includes the following:

I. Chairman's Welcome

II. Presentation of Chairman's Awards for Federal Achievement in Historic Preservation

III. Report of the Executive Committee

A. FY 2004 Budget Request

B. ACHP Appropriations Authorization

C. ACHP Congressional Relations Strategy

IV. Report of the Preservation Initiatives Committee

A. Federal Heritage Tourism Summit

B. Followup from Espanola, NM, Heritage Tourism Session

C. Legislation related to Heritage Tourism

V. Report of the Federal Agency Programs Committee

A. White House Transportation Infrastructure Streamlining Task Force

B. Coordination between Section 4(f) of the Department of Transportation Act and Section 106

C. Telecommunications Working Group

D. Section 106 Cases

VI. Report of the Communications, Education, and Outreach Committee

A. Historic Preservation Awards Program

B. Council Publications Program

C. ACHP Communications Plan

VII. Chairman's Report

A. Cooperative Agreement with the Department of Agriculture

B. Historic Preservation Executive Order

C. Preserve America Initiative

D. White House Transportation Infrastructure Streamlining Task Force

VIII. Executive Director's Report

A. Technical Amendments to Section 106 Regulations

B. FY 2003 Appropriations Process

IX. New Business

X. Adjourn

Note: The meetings of the ACHP are open to the public. If you need special accommodations due to a disability, please contact the Advisory Council on Historic Preservation, 1100 Pennsylvania Ave., NW., Room 809, Washington, DC, 202-606-8503, at least seven (7) days prior to the meeting.

FOR FURTHER INFORMATION CONTACT: Additional information concerning the meeting is available from the Executive Director, Advisory Council on Historic Preservation, 1100 Pennsylvania Ave., NW., #809, Washington, DC 20004.

Dated: October 29, 2002.
John M. Fowler,
Executive Director.

[FR Doc. 02-27972 Filed 11-1-02; 8:45 am]

BILLING CODE 4310-10-M